DEPARTMENT OF AGRICULTURE

Agricultural Marketing Service

[Doc. No. AMS-LPS-14-0044]

Sorghum Promotion, Research, and Information Program: Referendum

AGENCY: Agricultural Marketing Service, USDA.

ACTION: Notice of Opportunity to Participate in the Sorghum Promotion, Research, and Information Referendum.

SUMMARY: The Agricultural Marketing Service (AMS) is announcing that a referendum will be conducted among eligible sorghum producers and importers regarding the Sorghum Promotion, Research, and Information Order (Order), as authorized under the Commodity Promotion, Research, and Information Act of 1996 (Act).

DATES: Sorghum producers and importers will vote in the referendum during a 4-week period beginning on March 23, 2015, and ending April 21, 2015. To be eligible to participate in the referendum, producers and importers must certify that they or the entity they are authorized to represent are subject to the assessment and were engaged in the production or importation of sorghum between January 1, 2011, and December 31, 2014. An eligible person shall be entitled to cast only one vote in the referendum.

Form LS-379, Sorghum Promotion and Research Order Referendum Ballot, may be obtained by mail, fax, or in person from the Farm Service Agency (FSA) county offices from March 23, 2015, to April 21, 2015. Form LS-379 may also be obtained via the Internet at http://www.ams.usda.gov/lsmarketingprograms during the same time period. Sorghum producers should return completed forms and supporting documentation to the appropriate county FSA office by fax or in person no later than close of business April 21, 2015; or if returned by mail, must be postmarked by midnight April 21, 2015, and received in the county FSA office by close of business on April 28, 2015. Sorghum importers should return completed forms and supporting documentation to: Craig Shackelford, Research and Promotion Division, Livestock, Poultry, and Seed Program, AMS, USDA, 22 Jamesport Lane, White, GA 30184; Telephone: (470) 315-4246; craig.shackelford@ams.usda.gov no later than close of business April 21, 2015; or if returned by mail, must be postmarked by midnight April 21, 2015, and received in the AMS office by close of business on April 28, 2015.

FOR FURTHER INFORMATION CONTACT: Kenneth R. Payne, Director, Research and Promotion Division, Livestock, Poultry, and Seed Program, AMS, USDA, Room 2608-S, 1400 Independence Avenue SW., Washington, DC 20250-0251; Telephone 202/720-5705; Fax 202/720-1125; or email to Kenneth.Payne@ams.usda.gov, or Craig Shackelford, Marketing Specialist, Research and Promotion Division, Livestock, Poultry, and Seed Program, AMS, USDA, 22 Jamesport Lane, White, GA 30184; Telephone: (470) 315-4246; craig.shackelford@ams.usda.gov, or Rick Pinkston, Field Operations Staff, FSA, USDA, at Telephone (202) 720-1857, Fax (202) 720-1096, or by email at Rick.Pinkston@wdc.usda.gov.

SUPPLEMENTARY INFORMATION: Pursuant to the Act (7 U.S.C. 7411-7425), it is hereby directed that a referendum be conducted to ascertain whether continuance of the Order (7 CFR part 1221) is favored by those persons who have been engaged in the production or importation of sorghum from January 1, 2011, through December 31, 2014.

The representative period for establishing voter eligibility for the referendum shall be the period from January 1, 2011, through December 31, 2014. Persons who were subject to the assessment, and engaged in the production or importation of sorghum, who provide documentation, such as a sales receipt or remittance form, showing that they were engaged in the production or importation of sorghum from January 1, 2011, through December 31, 2014, are eligible to vote. Importers who were subject to the assessment may provide U.S. Customs and Border Protection form 7501.

On March 3, 2014, the Chairman of the United Sorghum Checkoff Program Board signed a letter requesting that AMS complete the voting of the referendum by April 15, 2015. He noted that this completion date would help ensure that as many producers as possible have a chance to vote in the referendum.

Eligible voters will be provided the opportunity to vote at the county FSA office where FSA maintains and processes the eligible voter's administrative farm records. For the eligible voter not participating in FSA programs, the opportunity to vote will be provided at the FSA office serving the county where the person owns or rents land. Eligible importers will be provided the opportunity to vote through the U.S. Department of Agriculture's (USDA) AMS office located in Washington, DC. Participation in the referendum is not mandatory.

On November 18, 2010, USDA published in the Federal Register (75 FR 70573) a final rule that sets forth procedures that will be used in conducting the referendum. The final rule includes definitions, provisions for supervising the referendum process, eligibility, procedures for obtaining and completing the form LS-379, required documentation showing that the person was engaged in the production or importation of sorghum from January 1, 2011, through December 31, 2014, where the referendum will be conducted, counting and reporting results, and disposition of the forms and records. Since the referendum will be conducted primarily at the county FSA offices, FSA employees will assist AMS by determining eligibility, counting requests, and reporting results.

Pursuant to the Act, USDA is conducting the required referendum from March 23, 2015 through April 21, 2015. Form LS-379 may be requested in person, by mail, or by facsimile from March 23, 2015 through April 21, 2015.

Form LS-379 may also be obtained via the Internet at: http://www.ams.usda.gov/lsmarketingprograms during the same 4-week period. Eligible voters would vote at the FSA office where FSA maintains and processes the person's, corporation's, or other entity's administrative farm records. For the person, corporation, or other entity eligible to vote that does not participate in FSA programs, the opportunity to vote would be provided at the FSA office serving the county where the person, corporation, or other entity owns or rents land.

Voters can determine the location of county FSA offices by contacting (1) the nearest FSA office, (2) the State FSA office, or (3) through an online search of FSA's Web site at: http://www.fsa.usda.gov/pas/default.asp. From the options available on this Web site select “State Offices,” click on your State, select “County Offices,” and click on the map to select a county.

Form LS-379 and supporting documentation may be returned in person, by mail, or facsimile to the appropriate county FSA office. Form LS-379 and accompanying documentation returned in person or by facsimile, must be received in the appropriate FSA office prior to the close of business on April 21, 2015. Form LS-379 and accompanying documentation returned by mail must be postmarked no later than midnight of April 21, 2015, and received in the county FSA office by close of business on April 28, 2015.

In accordance with Paperwork Reduction Act (44 U.S.C. Chapter 35), the information collection requirements have been approved under OMB number 0581-0093.

Authority: 7 U.S.C. 7411-7425.

Dated: February 11, 2015.
Rex A. Barnes,
Associate Administrator, Agricultural Marketing Service.

[FR Doc. 2015-03392 Filed 2-18-15; 8:45 am]

BILLING CODE 3410-02-P